DEPARTMENT OF ENERGY

Federal Energy Regulatory Commission

Combined Notice of Filings

Take notice that the Commission has received the following Natural Gas Pipeline Rate and Refund Report filings:

Filings Instituting Proceedings

Docket Numbers: PR15-3-000.

Applicants: Pelico Pipeline, LLC.

Description: Tariff filing per 284.123(b)(2) + (g): Rate Case to be effective 11/1/2014; TOFC: 1310.

Filed Date: 10/27/14.

Accession Number: 20141027-5032.

Comments Due: 5 p.m. ET 11/17/14.

284.123(g) Protests Due: 5 p.m. ET 12/26/14.

Docket Numbers: RP15-68-000.

Applicants: Iroquois Gas Transmission System, L.P.

Description: § 4(d) rate filing per 154.204: 10/28/14 Negotiated Rates—Cargill Incorporated (RTS) 3085-21 & 22 to be effective 11/1/2014.

Filed Date: 10/28/14.

Accession Number: 20141028-5074.

Comments Due: 5 p.m. ET 11/10/14.

Docket Numbers: RP15-69-000.

Applicants: Iroquois Gas Transmission System, L.P.

Description: § 4(d) rate filing per 154.204: 10/28/14 Negotiated Rates—United Energy Trading, LLC (HUB) to be effective 11/1/2014.

Filed Date: 10/28/14.

Accession Number: 20141028-5075.

Comments Due: 5 p.m. ET 11/10/14.

Docket Numbers: RP15-70-000.

Applicants: Iroquois Gas Transmission System, L.P.

Description: § 4(d) rate filing per 154.204: 10/28/14 Negotiated Rates—Emera Energy Services (RTS) 2715-20 to be effective 11/1/2014.

Filed Date: 10/28/14.

Accession Number: 20141028-5077.

Comments Due: 5 p.m. ET 11/10/14.

Docket Numbers: RP15-71-000.

Applicants: Iroquois Gas Transmission System, L.P.

Description: § 4(d) rate filing per 154.204: 10/28/14 Negotiated Rates—Tenaska Gas Storage (HUB) 1175-89 to be effective 11/1/2014.

Filed Date: 10/28/14.

Accession Number: 20141028-5080.

Comments Due: 5 p.m. ET 11/10/14.

Docket Numbers: RP15-72-000.

Applicants: Iroquois Gas Transmission System, L.P.

Description: § 4(d) rate filing per 154.204: 10/28/14 Negotiated Rates—Sequent Energy Management (HUB) 3075-89 to be effective 11/1/2014.

Filed Date: 10/28/14.

Accession Number: 20141028-5113.

Comments Due: 5 p.m. ET 11/10/14.

Docket Numbers: RP15-73-000.

Applicants: Iroquois Gas Transmission System, L.P.

Description: § 4(d) rate filing per 154.204: 10/28/14 Negotiated Rates—Rainbow Energy Marketing Corp. (HUB) 7400-89 to be effective 11/1/2014.

Filed Date: 10/28/14.

Accession Number: 20141028-5114.

Comments Due: 5 p.m. ET 11/10/14.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

Filings in Existing Proceedings

Docket Numbers: RP14-945-001.

Applicants: WBI Energy Transmission, Inc.

Description: Compliance filing per 154.203: Compliance Filing on Order to Show Cause to be effective 10/16/2014.

Filed Date: 10/28/14.

Accession Number: 20141028-5039.

Comments Due: 5 p.m. ET 11/10/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated October 29, 2014.
Nathaniel J. Davis, Sr.,
Deputy Secretary.

[FR Doc. 2014-26156 Filed 11-3-14; 8:45 am]

BILLING CODE 6717-01-P